FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 012460-003.

Agreement Name: COSCO Shipping/PIL/WHL Vessel Sharing and Slot Charter Agreement.

Parties: COSCO Shipping Lines Co., Ltd.; Pacific International Lines (PTE) Ltd.; and Wan Hai Lines (Sinapore) Pte. Ltd. and Wan Hai Lines Ltd. (acting as a single party).

Filing Party: Eric Jeffrey; Nixon Peabody.

Synopsis: The Amendment updates the shared strings and slot exchanges among the Parties.

Proposed Effective Date: 3/29/2019.

Location: https://www2.fmc.gov/FMC.Agreements.Web/Public/AgreementHistory/1948.

Agreement No.: 201293.

Agreement Name: Georgia—South Carolina Marine Terminal Operator Cooperative Working Agreement.

Parties: SSA Atlantic, LLC; Ceres Marine Terminals Inc.; and Ports America Florida, Inc.

Filing Party: Matthew Thomas; Blank Rome LLP.

Synopsis: The Agreement authorizes SSA Atlantic, LLC, Ceres Marine Terminals Inc., and Ports America Florida, Inc. to form a new limited liability company to provide services in the ports of Savannah, Georgia and Charleston, South Carolina.

Proposed Effective Date: 5/13/2019.

Location: https://www2.fmc.gov/FMC.Agreements.Web/Public/AgreementHistory/21355.

Dated: April 2, 2019.
Rachel Dickon,
Secretary.

[FR Doc. 2019-06783 Filed 4-5-19; 8:45 am]

BILLING CODE 6731-AA-P